ENVIRONMENTAL PROTECTION AGENCY

[FRL-9979-09-Region 6]

Clean Air Act Operating Permit Program; Petitions for Objection to State Operating Permit for South Louisiana Methanol L.P., St. James Methanol Plant in St. James Parish, Louisiana

AGENCY: Environmental Protection Agency (EPA).

ACTION: Notice of final Order on Petitions for objection to Clean Air Act title V operating permit.

SUMMARY: The Environmental Protection Agency (EPA) Administrator signed an Order dated May 29, 2018 denying a Petition dated December 29, 2016 and a Petition dated August 10, 2017 from the Louisiana Environmental Action Network and the Sierra Club (collectively, the Petitions and Petitioners, respectively). The Petitions requested that the EPA object to the Clean Air Act (CAA) title V operating permit 1560-00292-V1 issued on June 30, 2017 by the Louisiana Department of Environmental Quality (LDEQ) to South Louisiana Methanol, L.P. (SLM) for its Methanol Plant located in St. James, St. James Parish, Louisiana.

ADDRESSES: The EPA requests that you contact the individual listed in the FOR FURTHER INFORMATION CONTACT section to view copies of the final Order, the Petition, and other supporting information. You may review copies of the final Order, the Petition, and other supporting information at the EPA Region 6 Office, 1445 Ross Avenue, Suite 700, Dallas, TX 75202. You may view the hard copies Monday through Friday, from 9 a.m. to 3 p.m., excluding federal holidays. If you wish to examine these documents, you should make an appointment at least 24 hours before the visiting day. Additionally, the final Order and Petition are available electronically at: https://www.epa.gov/title-v-operating-permits/title-v-petition-database.

FOR FURTHER INFORMATION CONTACT: Brad Toups, EPA Region 6, by phone (214) 665-7258, or email at toups.brad@epa.gov.

SUPPLEMENTARY INFORMATION: The CAA affords the EPA a 45-day period to review and object to, as appropriate, operating permits proposed by state permitting authorities under title V of the CAA. Section 505(b)(2) of the CAA authorizes any person to petition the EPA Administrator to object to a title V operating permit within 60 days after the expiration of the EPA's 45-day review period if the EPA has not objected on its own initiative. Petitions must be based only on objections to the permit that were raised with reasonable specificity during the public comment period provided by the state, unless the petitioner demonstrates that it was impracticable to raise these issues during the comment period or unless the grounds for the issues arose after this period.

EPA received a first petition from the Petitioners on December 29, 2016 and a second petition from the same Petitioners on August 10, 2017 for the operating permit issued on June 30, 2017 to SLM for its Methanol Facility located in St. James Parish, Louisiana. The Petitioners requested that the Administrator object to the proposed operating permit issued by the LDEQ to SLM based on eight primary claims in the Petition. The claims are described in detail in Section IV of the Order. In summary, the issues raised include: Matters properly addressable through preconstruction permit requirements, such as the establishment of proper preconstruction emission limits and standards (various claims, introduction to Order Section IV); claims concerning the failure to require Best Available Control Technology (Claim IV); claims of permit condition unenforceability (Claim V); claims of unenforceability of emissions limits that apply to the boiler (Claim V.A), the Reformer Vent (Claim V.B), the flare (Claim V.D), the crude methanol tank (Claim V.E), the cooling towers (Claim V. G), from miscellaneous fired sources (Claim V.F), including CO2e emissions from such fired sources (Claim V.C). On May 29, 2018, the EPA Administrator issued an Order denying the Petitions. The Order explains the basis for EPA's decision.

Sections 307(b) and 505(b)(2) of the CAA provide that a petitioner may request judicial review of those portions of an order that deny issues in a petition. Any petition for review shall be filed in the United States Court of Appeals for the appropriate circuit no later than August 27, 2018.

Dated: June 15, 2018.
Anne Idsal,
Regional Administrator, Region 6.

[FR Doc. 2018-13652 Filed 6-25-18; 8:45 am]

BILLING CODE 6560-50-P